DEPARTMENT OF LABOR

Office of the Secretary

Submission for OMB Review: Comment Request

May 19, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: Bridget Dooling, OMB Desk Officer for the Employment Standards Administration (ESA), Office of Management and Budget, Room 10235, Washington, DC 20503, Telephone: 202-395-7316 / Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of a currently approved collection.

Title of Collection: Housing Terms and Conditions for MSPA Workers.

OMB Control Number: 1215-0146.

Form Numbers: WH-521.

Total Estimated Number of Respondents: 1,300.

Total Estimated Annual Burden Hours: 650.

Total Estimated Annual Cost Burden: $0.

Affected Public: Farms.

Description: Migrant and Seasonal Agricultural Worker Protection Act (MSPA) section 201(c) requires all Farm Labor Contractors (FLCs), Agricultural Employers (AGERs), and Agricultural Associations (AGASs) providing housing to any migrant agricultural worker to post in a conspicuous place at the site of the housing, or present to the migrant worker, a written statement of any housing occupancy terms and conditions. See 29 U.S.C. 1821(c); 29 CFR 500.75(f). In addition, MSPA section 201(g) requires these FLCs, AGERs, and AGASs to give such information in English, or as necessary and reasonable, in a language common to the workers. See 29 U.S.C. 1821(g); 29 CFR 500.1(i)(2), .75(a), (f)-(g). This provision also requires the Department of Labor (DOL) to make optional forms available to provide the required disclosures. See 29 U.S.C. 1821(g); 29 CFR 500.1(i)(2), .75(a), (g).

The Wage and Hour Division (WHD) of the DOL created optional Form WH-521 to provide an easy method for FLCs, AGERs, and AGASs to post at the site of the housing or present MSPA housing terms and conditions to migrant agricultural workers, as required under the Act. Among other things, the form specifically identifies the name and address of the entity providing the housing, the name of the person in charge of the housing, and any charges for the housing, utilities, and meals. The form also ensures that workers receive information that enables them to understand the terms and conditions under which they may occupy the housing, as the MSPA requires. The WHD publishes Form WH-521 in English and Spanish. For additional information, see related notice published at 73 FR 10470 on February 27, 2008.

Agency: Employment Standards Administration.

Type of Review: Extension without change of a currently approved collection.

Title of Collection: Rehabilitation Plan and Award.

OMB Control Number: 1215-0182.

Form Numbers: OWCP-44.

Total Estimated Number of Respondents: 7,000.

Total Estimated Annual Burden Hours: 1,169.

Total Estimated Annual Cost Burden: $0.

Affected Public: Business or other for-profit.

Description: The Form OWCP-44 is the form used to report the status of a rehabilitation case, submitted by the contractor vocational rehabilitation counselor during an ongoing vocational rehabilitation effort, and to request prompt adjudicatory claims action based on events arising during that effort. For additional information, see related notice published at 73 FR 9358 on February 20, 2008.

Darrin A. King,
Acting Departmental Clearance Officer.

[FR Doc. E8-11896 Filed 5-28-08; 8:45 am]

BILLING CODE 4510-CF-P